INTERNATIONAL TRADE COMMISSION

[Investigation No. TPA-105-003]

United States-Mexico-Canada Agreement: Likely Impact on the U.S. Economy and on Specific Industry Sectors; Institution of Investigation and Scheduling of Hearing

AGENCY: United States International Trade Commission.

ACTION: Institution of investigation and scheduling of public hearing.

SUMMARY: Following receipt of a request from the U.S. Trade Representative (USTR) on August 31, 2018, the U.S. International Trade Commission (Commission) has instituted investigation No. TPA-105-003 for the purpose of preparing the report required by section 105(c) of the Bipartisan Congressional Trade Priorities and Accountability Act of 2015 (19 U.S.C. 4204(c)). The report will assess the likely impact of the United States-Mexico-Canada Agreement (USMCA) on the U.S. economy as a whole, on selected industry sectors, and on U.S. consumer interests. The Commission will submit its report to the President and Congress.

DATES:

October 29, 2018: Deadline for filing requests to appear at the public hearing

October 30, 2018: Deadline for filing prehearing briefs and statements

November 15, 2018 and continuing on November 16, 2018 if necessary: Public hearing

November 23, 2018: Deadline for filing posthearing briefs

December 20, 2018: Written submissions from the public

Transmittal of Commission report to the President and Congress: No later than 105 days after the President enters into the agreement

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov/.

FOR FURTHER INFORMATION CONTACT: Co-Project Leader Serge Shikher (202-205-2393 or serge.shikher@usitc.gov) or Co-Project Leader Mihir Torsekar (202-205-3350 or mihir.torsekar@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (http://www.usitc.gov). Persons with mobility impairments who will need special assistance in gaining access to the Commission should contact the Office of the Secretary at 202-205-2002.

SUPPLEMENTARY INFORMATION:

Background

On August 31, 2018, the Commission received a letter from the United States Trade Representative (USTR) stating that the President that day had notified Congress of his intent to enter into a trade agreement “with Mexico—and with Canada if it is willing.” On October 1, 2018, the Office of the USTR published the text of the United States-Mexico-Canada Agreement (USMCA) on its website at https://www.ustr.gov. In his August 31, 2018, letter, the USTR requested that the Commission prepare the report specified in section 105(c)(2)(3) of the Bipartisan Congressional Trade Priorities and Accountability Act of 2015 (19 U.S.C. 4204(c)(2)-(3)) (TPA Act). The TPA Act requires that the Commission submit to the President and Congress a report assessing the likely impact of the agreement on the United States economy as a whole and on specific industry sectors, including the impact the agreement will have on the gross domestic product, exports and imports, aggregate employment and employment opportunities, the production, employment, and competitive position of industries likely to be significantly affected by the agreement, and the interests of U.S. consumers. In addition, the TPA Act requires the Commission to review available economic assessments regarding the agreement, including literature regarding any substantially equivalent proposed agreement, and provide in its assessment a description of the analyses used and conclusions drawn in such literature, and a discussion of areas of consensus and divergence between the various analyses and conclusions, including those of the Commission regarding the agreement.

The statute requires that the Commission submit its assessment to the President and Congress no later than 105 days after the President enters into the Agreement.

Public Hearing

A public hearing in connection with this investigation will be held at the U.S. International Trade Commission Building, 500 E Street SW, Washington, DC, beginning at 9:30 a.m. on November 15, 2018, and continuing on November 16, 2018, if necessary. Requests to appear at the public hearing should be filed with the Secretary, no later than 5:15 p.m., October 29, 2018; all pre-hearing briefs and statements should be filed no later than 5:15 p.m., October 30, 2018; and all post-hearing briefs responding to matters raised at the hearing should be filed no later than 5:15 p.m., November 23, 2018. All requests to appear, pre-hearing briefs and statements, and post-hearing briefs must be filed in accordance with the procedural requirements in the “Submissions” section below. In the event that, as of the close of business on November 8, 2018, no witnesses are scheduled to appear at the hearing, the hearing will be canceled.

Written Submissions

In lieu of or in addition to participating in the hearing, the Commission invites interested parties to submit written statements concerning this investigation. All written submissions should be addressed to the Secretary, and should be received no later than 5:15 p.m., December 20, 2018. All written submissions must conform with the provisions of section 201.8 of the Commission's Rules of Practice and Procedure (19 CFR 201.8). Section 201.8 and the Commission's Handbook on Filing Procedures require that interested parties file documents electronically on or before the filing deadline and submit eight (8) true paper copies by 12:00 p.m. Eastern Time on the next business day. In the event that confidential treatment of a document is requested, interested parties must file, at the same time as the eight paper copies, at least four (4) additional true paper copies in which the confidential information must be deleted (see the following paragraph for further information regarding confidential business information or “CBI”). Persons with questions regarding electronic filing should contact the Office of the Secretary, Docket Services Division (202-205-1802).

Confidential Business Information (CBI)

Any submissions that contain CBI must also conform to the requirements of section 201.6 of the Commission's Rules of Practice and Procedure (19 CFR 201.6). Section 201.6 of the rules requires that the cover of the document and the individual pages be clearly marked as to whether they are the “confidential” or “non-confidential” version, and that the CBI is clearly identified using brackets. All written submissions, except for those containing CBI, will be made available for inspection by interested parties.

All information, including CBI, submitted in this investigation may be disclosed to and used (i) by the Commission, its employees and Offices, and contract personnel (a) for developing or maintaining the records of this or a related proceeding, or (b) in internal investigations, audits, reviews, and evaluations relating to the programs, personnel, and operations of the Commission, including under 5 U.S.C. Appendix 3; or (ii) by U.S. government employees and contract personnel for cybersecurity purposes. The Commission will not otherwise disclose any CBI in a manner that would reveal the operations of the firm supplying the information. The report that the Commission sends to the President and Congress will not include any CBI.

Summaries of Written Submissions

The Commission intends to publish summaries of the written submissions filed by interested persons. Persons wishing to have a summary of their submission included in the report should include a summary with their written submission and should mark the summary as having been provided for that purpose. The summary should be clearly marked as “summary” at the top of the page. It may not exceed 500 words, should be in MSWord format or a format that can be easily converted to MSWord, and should not include any CBI. The summary will be published as provided if it meets these requirements and is germane to the subject matter of the investigation. The Commission will identify the name of the organization furnishing the summary and will include a link to the Commission's Electronic Document Information System (EDIS) where the full written submission can be found.

By order of the Commission.
Issued: October 12, 2018.
Lisa Barton,
Secretary to the Commission.

[FR Doc. 2018-22672 Filed 10-15-18; 8:45 am]

BILLING CODE 7020-02-P